DEPARTMENT OF LABOR

Mine Safety and Health Administration

Fee Adjustment for Testing, Evaluation, and Approval of Mining Products

AGENCY: Mine Safety and Health Administration (MSHA), Labor.

ACTION: Notice of fee adjustment.

SUMMARY: This notice describes MSHA's revised fee schedule for testing, evaluating, and approving mining products as provided by 30 CFR part 5. MSHA charges applicants a fee to cover its direct and indirect costs associated with testing, evaluating, and approval of equipment and materials manufactured for use in the mining industry. The new fee schedule, effective January 1, 2011, is based on MSHA's direct and indirect costs for providing services during fiscal year (FY) 2010.

DATES: This fee schedule is effective January 1, 2011.

FOR FURTHER INFORMATION CONTACT: John P. Faini, Chief, Approval and Certification Center, 304-547-2029 or 304-547-0400.

SUPPLEMENTARY INFORMATION:

I. Background

Under 30 CFR 5.50, each fee schedule shall remain in effect for at least one year and be subject to revision at least once every three years. MSHA's existing fee schedule, revised December 24, 2008 (73 FR 79195) became effective January 1, 2009.

Under 30 CFR 5.30(a), Part 15 fees for services provided to MSHA by other organizations may be set by those organizations. In addition, under 30 CFR 5.40, when the nature of the product requires MSHA to test and evaluate the product at a location other than on MSHA premises, MSHA is allowed to charge actual travel expenses in addition to the fees charged for evaluation and testing.

II. Fee Computation

MSHA computed the 2011 fees using FY 2010 costs for baseline data. MSHA calculated a weighted-average based on the direct and indirect costs to applicants for testing, evaluation, and approval services provided in FY 2010. From this average, MSHA computed a single hourly rate, which applies uniformly to all applications.

As a result of this process, MSHA has determined that as of January 1, 2011, the fee will be $97 per hour for services provided.

III. Applicable Fee

• Applications postmarked before January 1, 2011: MSHA will process these applications under the 2009 hourly rate of $90.

• Applications postmarked on or after January 1, 2011: MSHA will process these applications under the 2011 hourly rate of $97. This information is available on MSHA's Web site at http://www.msha.gov.

Dated: December 22, 2010.
Joseph A. Main,
Assistant Secretary for Mine Safety and Health.

[FR Doc. 2010-32744 Filed 12-28-10; 8:45 am]

BILLING CODE 4510-43-P